DEPARTMENT OF JUSTICE

Drug Enforcement Administration

Demille W. Madoux, M.D.; Decision and Order

On January 11, 2023, the Drug Enforcement Administration (DEA or Government) issued an Order to Show Cause (OSC) to Demille W. Madoux, M.D. (Registrant). Request for Final Agency Action (RFAA), Exhibit (RFAAX) 2, at 1, 4. The OSC proposed the revocation of Registrant's Certificate of Registration No. BM0663523 at the registered address of 13921 N Meridian Ave., Suite 100, Oklahoma City, Oklahoma 73134. Id. at 1. The OSC alleged that Registrant's registration should be revoked because Registrant is “currently without authority to handle controlled substances in the State of Oklahoma, the state in which [he is] registered with DEA.” Id. at 2 (citing, inter alia, 21 U.S.C. 824(a)(3)).

The OSC notified Registrant of his right to file with DEA a written request for hearing, and that if he failed to file such a request, he would be deemed to be in default. Id. at 2-3 (citing 21 CFR 1301.43). Here, Registrant did not request a hearing. RFAA, at 1.¹ “A default, unless excused, shall be deemed to constitute a waiver of the [registrant's] right to a hearing and an admission of the factual allegations of the [OSC].” 21 CFR 1301.43(e).

¹ Based on the Government's submissions in its RFAA dated April 25, 2023, the Agency finds that service of the OSC on Registrant was adequate. Specifically, the included copy of the certified mail return receipt indicates that on March 11, 2023, Registrant was personally served with the OSC at his personal address. RFAAX 1, at 8.

Further, “[i]n the event that a registrant . . . is deemed to be in default . . . DEA may then file a request for final agency action with the Administrator, along with a record to support its request. In such circumstances, the Administrator may enter a default final order pursuant to [21 CFR] § 1316.67.” Id. § 1301.43(f)(1). Here, the Government has requested final agency action based on Registrant's default pursuant to 21 CFR 1301.43(c) and (f). RFAA, at 1.

Findings of Fact

The Agency finds that, in light of Registrant's default, the factual allegations in the OSC are admitted. According to the OSC, on April 8, 2022, Registrant “entered into an Agreement with the State of Oklahoma Board of Medical Licensure and Supervision `not to practice in any manner as a Medical Doctor in the State of Oklahoma,' ” and “[o]n October 31, 2022, [Registrant's] State of Oklahoma controlled substance registration expired.” RFAAX 2, at 2.

According to Oklahoma's online records, of which the Agency takes official notice, Registrant is not “Registered to Dispense,” and Registrant's Oklahoma controlled substance license remains inactive.² Oklahoma Board of Medical Licensure and Supervision, Search Licenses, https://www.okmedicalboard.org/search (last visited date of signature of this Order); Oklahoma Bureau of Narcotics and Dangerous Drugs Control, Registrant Search, https://obnddc.us.thentiacloud.net/webs/obnddc/register/# (last visited date of signature of this Order). Therefore, the Agency finds that Registrant is not authorized to dispense or handle controlled substances in Oklahoma, the state in which he is registered with DEA.

² Under the Administrative Procedure Act, an agency “may take official notice of facts at any stage in a proceeding—even in the final decision.” United States Department of Justice, Attorney General's Manual on the Administrative Procedure Act 80 (1947) (Wm. W. Gaunt & Sons, Inc., Reprint 1979). Pursuant to 5 U.S.C. 556(e), “[w]hen an agency decision rests on official notice of a material fact not appearing in the evidence in the record, a party is entitled, on timely request, to an opportunity to show the contrary.” Accordingly, Registrant may dispute the Agency's finding by filing a properly supported motion for reconsideration of findings of fact within fifteen calendar days of the date of this Order. Any such motion and response shall be filed and served by email to the other party and to the DEA Office of the Administrator, Drug Enforcement Administration at dea.addo.attorneys@dea.gov.

Discussion

Pursuant to 21 U.S.C. 824(a)(3), the Attorney General is authorized to suspend or revoke a registration issued under 21 U.S.C. 823 “upon a finding that the registrant . . . has had his State license or registration suspended . . . [or] revoked . . . by competent State authority and is no longer authorized by State law to engage in the . . . dispensing of controlled substances.” With respect to a practitioner, DEA has also long held that the possession of authority to dispense controlled substances under the laws of the state in which a practitioner engages in professional practice is a fundamental condition for obtaining and maintaining a practitioner's registration. See, e.g., James L. Hooper, D.O., 76 FR 71371, 71372 (2011), pet. for rev. denied, 481 F. App'x 826 (4th Cir. 2012); Frederick Marsh Blanton, D.O., 43 FR 27616, 27617 (1978).³

³ This rule derives from the text of two provisions of the Controlled Substances Act. First, Congress defined the term “practitioner” to mean “a physician . . . or other person licensed, registered, or otherwise permitted, by . . . the jurisdiction in which he practices . . . , to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1). Because Congress has clearly mandated that a practitioner possess state authority in order to be deemed a practitioner under the CSA, DEA has held repeatedly that revocation of a practitioner's registration is the appropriate sanction whenever he is no longer authorized to dispense controlled substances under the laws of the state in which he practices. See, e.g., James L. Hooper, 76 FR at 71371-72; Sheran Arden Yeates, D.O., 71 FR 39130, 39131 (2006); Dominick A. Ricci, D.O., 58 FR 51104, 51105 (1993); Bobby Watts, D.O., 53 FR 11919, 11920 (1988); Frederick Marsh Blanton, 43 FR at 27617.

Pursuant to the Oklahoma's Uniform Controlled Dangerous Substances Act, “[e]very person who manufactures, distributes, dispenses, prescribes, administers or uses for scientific purposes any controlled dangerous substance within or into this state . . . shall obtain a registration issued by the Director of the Oklahoma State Bureau of Narcotics and Dangerous Drugs Control, in accordance with rules promulgated by the Director.” Okla. Stat. tit. 63, section 2-302(A).⁴

⁴ Although there are limited circumstances under which a person “may lawfully possess controlled dangerous substances” without a registration issued by the Director of the Oklahoma State Bureau of Narcotics and Dangerous Drugs Control, based on the information furnished by the Government, none are applicable here. Id. Section 2-302(H).

Here, the evidence in the record is that Registrant currently lacks authority to handle controlled substances in Oklahoma because his Oklahoma controlled substance license has expired. As already discussed, a person must hold a valid controlled substance license to dispense a controlled substance in Oklahoma, subject to limited exceptions. Thus, because Registrant lacks authority to handle controlled substances in Oklahoma, Registrant is not eligible to maintain a DEA registration. Accordingly, the Agency will order that Registrant's DEA registration be revoked.

Order

Pursuant to 28 CFR 0.100(b) and the authority vested in me by 21 U.S.C. 824(a), I hereby revoke DEA Certificate of Registration No. BM0663523 issued to Demille W. Madoux, M.D. Further, pursuant to 28 CFR 0.100(b) and the authority vested in me by 21 U.S.C. 823(g)(1), I hereby deny any pending applications of Demille W. Madoux, M.D., to renew or modify this registration, as well as any other pending application of Demille W. Madoux, M.D., for additional registration in Oklahoma. This Order is effective November 30, 2023.

Signing Authority

This document of the Drug Enforcement Administration was signed on October 20, 2023, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2023-23953 Filed 10-30-23; 8:45 am]

BILLING CODE 4410-09-P